DEPARTMENT OF ENERGY

Federal Energy Regulatory Commission

[Project No. 2016-044]

City of Tacoma, WA; Notice of a Technical Conference

December 14, 2000.

Take notice that Commission staff will hold a technical conference with Tacoma Power, the applicant for the Cowlitz River Project No. 2016; parties to the August 2000 Settlement Agreement; and other interested parties in the relicensing proceeding for the project. The conference will be held on January 4, 2001, from 9 a.m. to 4 p.m. at the U.S. Fish and Wildlife Service Office, 510 Desmond Drive, Sawyer Hall, Lacey, Washington.

The purpose of the conference is to discuss issues concerning the Ecosystem Diagnosis and Treatment (EDT) analysis and water temperature modeling information requested by the Commission on October 24, 2000, for preparation of its Environmental Impact Statement on the relicensing of the project. All interested individuals, organizations, and agencies are invited to attend the meeting.

For further information, please contact David Turner at (202) 219-2844.

David P. Boergers,
Secretary.

[FR Doc. 00-32345 Filed 12-19-00; 8:45 am]

BILLING CODE 6717-01-M